INTERNATIONAL TRADE COMMISSION

[Investigation Nos. 701-TA-739-740 and 731-TA-1716-1717 (Final)]

Thermoformed Molded Fiber Products From China and Vietnam; Determinations; Correction

AGENCY: United States International Trade Commission.

ACTION: Notice; correction.

SUMMARY: Correction is made to the date determinations in these investigations were completed and filed.

SUPPLEMENTARY INFORMATION:

Correction

In the Federal Register of January 7, 2026 (91 FR 537), in FR Doc. 2026-00076, on page 537, in the third column, in the Background section, the date the determinations were completed and filed should be January 5, 2026.

By order of the Commission.
Issued: February 23, 2026.
Lisa Barton,
Secretary to the Commission.

[FR Doc. 2026-03785 Filed 2-24-26; 8:45 am]

BILLING CODE 7020-02-P